DEPARTMENT OF THE INTERIOR

Bureau of Land Management

[MT-926-02-1420-BJ]

Montana: Filing of Amended Protraction Diagram Plats

AGENCY: Bureau of Land Management, Montana State Office, Interior.

ACTION: Notice.

SUMMARY: The plats of the amended protraction diagrams accepted September 14 and 17, 2001, of the following described lands are scheduled to be officially filed in the Montana State Office, Billings Montana, thirty (30) days from the date of this publication.

Tps. 21, 22, 23, and 24 N., Rs. 18 and 29 W.

The plat, representing the Amended Protraction Diagram 33 Index of unsurveyed Townships 21, 22, 23, and 24 North, Ranges 18 and 19 West, Principal Meridian, Montana, was September 14, 2001.

T. 21 N., R. 18 W.

The plat, representing Amended Protraction Diagram 33 of unsurveyed Township 21 North, Range 18 West, Principal Meridian, Montana, was accepted September 14, 2001.

T. 22 N., R. 18 W.

The plat, representing Amended Protraction Diagram 33 of unsurveyed Township 22 North, Range 18 West, Principal Meridian, Montana, was accepted September 14, 2001.

T. 23 N., R. 18 W.

The plat, representing Amended Protraction Diagram 33 of unsurveyed Township 23 North, Range 18 West, Principal Meridian, Montana, was accepted September 14, 2001.

T. 24 N., R. 18 W.

The plat, representing Amended Protraction Diagram 33 of unsurveyed Township 24 North, Range 18 West, Principal Meridian, Montana, was accepted September 14, 2001.

T. 21 N., R. 19 W.

The plat, representing Amended Protraction Diagram 33 of unsurveyed Township 21 North, Range 19 West, Principal Meridian, Montana, was accepted September 14, 2001.

T. 22 N., R. 19 W.

The plat, representing Amended Protraction Diagram 33 of unsurveyed Township 22 North, Range 19 West, Principal Meridian, Montana, was accepted September 14, 2001.

T. 23 N., R. 19 W.

The plat, representing Amended Protraction Diagram 33 of unsurveyed Township 23 North, Range 19 West, Principal Meridian, Montana, was accepted September 14, 2001.

T. 24 N., R. 19 W.

The plat, representing Amended Protraction Diagram 33 of unsurveyed Township 24 North, Range 19 West, Principal Meridian, Montana, was accepted September 14, 2001.

Tps. 3 S., Rs. 3, 4, and 5 W.

The plat, representing the Amended Protraction Diagram 50 Index of unsurveyed Townships 3 South, Ranges 3, 4, and 5 West, Principal Meridian, Montana, was September 17, 2001.

T. 3 S., R. 3 W.

The plat, representing Amended Protraction Diagram 50 of unsurveyed Township 3 South, Range 3 West, Principal Meridian, Montana, was accepted September 17, 2001.

T. 3 S., R. 4 W.

The plat, representing Amended Protraction Diagram 50 of unsurveyed Township 3 South, Range 4 West, Principal Meridian, Montana, was accepted September 17, 2001.

T. 3 S., R. 5 W.

The plat, representing Amended Protraction Diagram 50 of unsurveyed Township 3 South, Range 5 West, Principal Meridian, Montana, was accepted September 17, 2001.

Tps. 1, 2, 3, 4, and 5 S., Rs. 10, 11, 12, 13, and 14 W.

The plat, representing the Amended Protraction Diagram 51 Index of unsurveyed Townships 1, 2, 3, 4, and 5 North, Ranges 10, 11, 12, 13, and 14 West, Principal Meridian, Montana, was September 14, 2001.

T. 1 S., R. 10 W.

The plat, representing Amended Protraction Diagram 51 of unsurveyed Township 1 South, Range 11 West, Principal Meridian, Montana, was accepted September 14, 2001.

T. 1 S., R. 12 W.

The plat, representing Amended Protraction Diagram 51 of unsurveyed Township 1 South, Range 12 West, Principal Meridian, Montana, was accepted September 14, 2001.

T. 1 S., R. 13 W.

The plat, representing Amended Protraction Diagram 51 of unsurveyed Township 1 South, Range 13 West, Principal Meridian, Montana, was accepted September 14, 2001.

T. 1 S., R. 14 W.

The plat, representing Amended Protraction Diagram 51 of unsurveyed Township 1 South, Range 14 West, Principal Meridian, Montana, was accepted September 14, 2001.

T. 2 S., R. 11 W.

The plat, representing Amended Protraction Diagram 51 of unsurveyed Township 2 South, Range 11 West, Principal Meridian, Montana, was accepted September 14, 2001.

T. 2 S., R. 13 W.

The plat, representing Amended Protraction Diagram 51 of unsurveyed Township 2 South, Range 13 West, Principal Meridian, Montana, was accepted September 14, 2001.

T. 3 S., R. 11 W.

The plat, representing Amended Protraction Diagram 51 of unsurveyed Township 3 South, Range 11 West, Principal Meridian, Montana, was accepted September 14, 2001.

T. 3 S., R. 12 W.

The plat, representing Amended Protraction Diagram 51 of unsurveyed Township 3 South, Range 12 West, Principal Meridian, Montana, was accepted September 14, 2001.

T. 3 S., R. 13 W.

The plat, representing Amended Protraction Diagram 51 of unsurveyed Township 3 South, Range 13 West, Principal Meridian, Montana, was accepted September 14, 2001.

T. 4 S., R. 11 W.

The plat, representing Amended Protraction Diagram 51 of unsurveyed Township 4 South, Range 11 West, Principal Meridian, Montana, was accepted September 14, 2001.

T. 4 S., R. 13 W.

The plat, representing Amended Protraction Diagram 51 of unsurveyed Township 4 South, Range 13 West, Principal Meridian, Montana, was accepted September 14, 2001.

T. 4 S., R. 14 W.

The plat, representing Amended Protraction Diagram 51 of unsurveyed Township 4 South, Range 14 West, Principal Meridian, Montana, was accepted September 14, 2001.

T. 5 S., R. 11 W.

The plat, representing Amended Protraction Diagram 51 of unsurveyed Township 5 South, Range 11 West, Principal Meridian, Montana, was accepted September 14, 2001.

T. 5 S., R. 14 W.

The plat, representing Amended Protraction Diagram 51 of unsurveyed Township 5 South, Range 14 West, Principal Meridian, Montana, was accepted September 14, 2001.

A copy of the preceding described plats of the amended protraction diagrams accepted September 14 and 17, 2001, will be immediately placed in the open files and will be available to the public as a matter of information.

If a protest against these amended protraction diagrams, accepted September 14 and 17, 2001, as shown on these plats, is received prior to the date of the official filings, the filings will be stayed pending consideration of the protests.

These particular plats of the amended protraction diagrams will not be officially filed until the day after all protests have been accepted or dismissed and become final or appeals from the dismissal affirmed.

FOR FURTHER INFORMATION CONTACT: Bureau of Land Management, 5001 Southgate Drive, P.O. Box 36800, Billings, Montana 59107-6800.

Dated: October 5, 2001.
Steven G. Schey,
Chief Cadastral Surveyor, Division of Resources.

[FR Doc. 01-27921 Filed 11-6-01; 8:45 am]

BILLING CODE 4310-DN-P